COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products to the Procurement List that will be furnished by nonprofit agencies employing persons who are blind or have other severe disabilities.

DATES: Date added to the Procurement List: April 22, 2018.

ADDRESSES: Committee for Purchase From People Who Are Blind or Severely Disabled, 1401 S. Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION:

Additions

On 12/15/2017 (82 FR 240) and 12/22/2017 (82 FR 245), the Committee for Purchase From People Who Are Blind or Severely Disabled published notices of proposed additions to the Procurement List.

After consideration of the material presented to it concerning capability of qualified nonprofit agencies to furnish the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN(s)—Product Name(s):

MR 13100—Baking Value Pack

MR 13101—Muffin Pan, 6-Cup

MR 13102—Cake Pan, Square, 8″ x 8″

MR 13103—Cake Pan, Round, 9″

MR 13104—Muffin Pan, 12-Cup

MR 13105—Muffin Pan, Mini, 24-Cup

MR 13106—Cookie Sheet, Large, 11″ x 17″

MR 13107—Loaf Pan, 9.3″ x 5.3″

MR 13108—Cookie Sheet, Medium, 10″ x 15″

MR 13109—Cookie Tool, Scoop N' Cut

MR 13110—Cake Cutter, Slice N' Easy

MR 13111—Cookie Spatula, Slip N' Serve

MR 13112—Cookie Sheet, Small, 9″ x 13″

Mandatory for: The requirements of military commissaries and exchanges in accordance with the Code of Federal Regulations 41 CFR 51-6.4.

Mandatory Source of Supply: Winston-Salem Industries for the Blind, Inc., Winston-Salem, NC.

Contracting Activity: Defense Commissary Agency.

NSN—Product Name: 6510-00-786-3736—Isopropyl Alcohol Impregnated Pad.

Mandatory Source of Supply: Lighthouse Works, Orlando, FL.

Mandatory for: Broad Government Requirement.

Contracting Activity: Defense Logistics Agency Troop Support.

Amy B. Jensen,
Director, Business Operations.

[FR Doc. 2018-05927 Filed 3-22-18; 8:45 am]

BILLING CODE 6353-01-P